DEPARTMENT OF ENERGY

Federal Energy Regulatory Commission

Combined Notice of Filings #2

Take notice that the Commission received the following electric corporate filings:

Docket Numbers: EC17-182-000.

Applicants: Calpine Corporation, ECP ControlCo, LLC.

Description: Application for Authorization Under Section 203 of the Federal Power Act of Calpine Corporation, et al.

Filed Date: 9/15/17.

Accession Number: 20170915-5149.

Comments Due: 5 p.m. ET 10/6/17.

Take notice that the Commission received the following electric rate filings:

Docket Numbers: ER17-2493-000.

Applicants: Southern California Edison Company.

Description: § 205(d) Rate Filing: Amended CLGIA & Amended DSA Windhub Solar Project SA Nos. 686-687 to be effective 11/15/2017.

Filed Date: 9/15/17.

Accession Number: 20170915-5092.

Comments Due: 5 p.m. ET 10/6/17.

Docket Numbers: ER17-2494-000.

Applicants: Florida Power & Light Company.

Description: § 205(d) Rate Filing: FPL Amendment No. 5 to Rate Schedule No. 74 to be effective 10/1/2017.

Filed Date: 9/15/17.

Accession Number: 20170915-5128.

Comments Due: 5 p.m. ET 10/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2017.
Nathaniel J. Davis, Sr.,
Deputy Secretary.

[FR Doc. 2017-20250 Filed 9-21-17; 8:45 am]

BILLING CODE 6717-01-P